DEPARTMENT OF JUSTICE

Notice of Lodging of Proposed Consent Decree Under the Clean Air Act

On April 1, 2013, the Department of Justice lodged a proposed consent decree with the United States District Court for the Central District of Illinois in the lawsuit entitled United States v. Dominion Energy Inc., Dominion Energy Brayton Point LLC, and Kincaid Generation LLC, Civ. No. 13-cv-3086 (C.D. Ill.).

In this civil enforcement action under the federal Clean Air Act, the United States alleges that Defendants failed to comply with certain requirements of the Act intended to protect air quality. The complaint seeks injunctive relief and civil penalties for violations of the Prevention of Significant Deterioration (“PSD”) and Title V provisions of the Clean Air Act, 42 U.S.C. 7470-92 and 42 U.S.C. 7661a-76661f, and related state and federal implementing regulations. The complaint alleges that Defendants failed to obtain appropriate permits and failed to install and operate required pollution control devices to reduce emissions of various air pollutants at the Kincaid Power Station, a coal-fired power plant in Kincaid, Illinois.

The proposed consent decree would resolve past Clean Air Act violations and would require Defendants to reduce harmful emissions of sulfur dioxide (“SO2”), nitrogen oxides (“NOX”), and particular matter (“PM”) at the Kincaid Power Station, as well as the Brayton Point Power Station, a coal-fired power plant located in Somerset, Massachusetts. The reductions would be achieved through emission control requirements and limitations specified by the proposed consent decree, including installation and operation of pollution controls and annual emission caps. In addition, the proposed consent makes permanent the retirement of the State Line Power Station, a recently shut down coal-fired power plant in Hammond, Indiana. Defendants will also spend $9.75 million to fund environmental mitigation projects that will further reduce emissions and benefit communities adversely affected by pollution from its plants, and pay a civil penalty of $3.4 million. Defendants recently announced their intention to sell the Kincaid and Brayton Point Power Stations to a subsidiary of Energy Capital Partners, a subsidiary of which, Equipower Resources, also owns and operates several power plants in the Northeast. The proposed consent decree provides a process for any such new owner to be substituted as a party to the consent decree.

The publication of this notice opens a period for public comment on the proposed consent decree. Comments should be addressed to the Assistant Attorney General, Environment and Natural Resources Division, and should refer to United States v. Dominion Energy Inc., Dominion Energy Brayton Point LLC, and Kincaid Generation LLC, Civ. No. 13-cv-3086 (C.D. Ill.), D.J. Ref. No. 90-5-2-1-09860. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed consent decree may be examined and downloaded at this Justice Department Web site: http://www.usdoj.gov/enrd/Consent_Decrees.html. We will provide a paper copy of the proposed consent decree upon written request and payment of reproduction costs. Please mail your request and payment to: Consent Decree Library, U.S. DOJ-ENRD, P.O. Box 7611, Washington, DC 20044-7611.

Please enclose a check or money order for $24.00 (25 cents per page reproduction cost) payable to the United States Treasury.

Maureen Katz,
Assistant Section Chief, Environmental Enforcement Section, Environment and Natural Resources Division.

[FR Doc. 2013-08077 Filed 4-5-13; 8:45 am]

BILLING CODE 4410-15-P